ENVIRONMENTAL PROTECTION AGENCY

40 CFR Part 52

[EPA-R05-OAR-2014-0658; FRL-9943-45-Region 5]

Air Plan Approval; Ohio; Base Year Emission Inventories for the 2008 8-Hour Ozone Standard

AGENCY: Environmental Protection Agency (EPA).

ACTION: Proposed rule.

SUMMARY: The Environmental Protection Agency (EPA) is proposing to approve, under the Clean Air Act (CAA), a State Implementation Plan (SIP) revision submitted by the Ohio Environmental Protection Agency (OEPA) on July 18, 2014, to address emission inventory requirements for the Cleveland-Akron-Loraine, Ohio (OH) and Columbus, OH ozone nonattainment areas and for the Ohio portion of the Cincinnati, Ohio-Kentucky-Indiana ozone nonattainment area under the 2008 ozone national ambient air quality standard. The CAA requires emission inventories for all ozone nonattainment areas. The emission inventories contained in Ohio's July 18, 2014, submission meet this CAA requirement. EPA is also proposing to confirm that the state of Ohio has acceptable stationary source annual emission statement regulations, which have been previously approved by the EPA.

DATES: Comments must be received on or before April 11, 2016.

ADDRESSES: Submit your comments, identified by Docket ID No. EPA-R05-OAR-2014-0658 at http://www.regulations.gov or via email to Aburano.Douglas@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Edward Doty, Air Programs Branch (AR-18J), Environmental Protection Agency, 77 West Jackson Boulevard, Chicago, Illinois 60604, (312) 886-6057, Doty.Edward@epa.gov.

SUPPLEMENTARY INFORMATION: In the Rules and Regulations section of this Federal Register, EPA is approving Ohio's SIP revision submittal as a direct final rule without prior proposal because the Agency views this as a noncontroversial submittal and anticipates no adverse comments. A detailed rationale for the approval is set forth in the direct final rule. If no adverse comments are received in response to this rule, no further activity is contemplated. If EPA receives adverse comments, the direct final rule will be withdrawn and all public comments received will be addressed in a subsequent final rule based on this proposed rule. EPA will not institute a second comment period. Any parties interested in commenting on this action should do so at this time. Please note that, if EPA receives adverse comment on an amendment, paragraph, or section of this rule and if that provision may be severed from the remainder of the rule, EPA may adopt as final those provisions of the rule that are not the subject of an adverse comment. For additional information see the direct final rule, which is located in the Rules section of this Federal Register.

Dated: February 26, 2016.
Robert A. Kaplan,
Acting Regional Administrator, Region 5.

[FR Doc. 2016-05272 Filed 3-9-16; 8:45 am]

BILLING CODE 6560-50-P